FEDERAL COMMUNICATIONS COMMISSION

Notice of Public Information Collection(s) Being Reviewed by the Federal Communications Commission, Comments Requested

October 5, 2009.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comments on this information collection should submit comments on November 13, 2009. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Judith B. Herman, Federal Communications Commission (FCC). To submit your PRA comments by e-mail send then to: PRA@fcc.gov. To view a copy of this information collection request (ICR) submitted to OMB: (1) Go to web page: http://www.reginfo.gov/public/do/PRAMain, (2) look for the section of the web page called ”Currently Under Review”, (3) click on the downward-pointing arrow in the ”Select Agency” box below the ”Currently Under Review” heading, (4) select ”Federal Communications Commission” from the list of agencies presented in the ”Select Agency” box, (5) click the ”Submit” button to the right of the ”Select Agency” box, and (6) when the FCC list appears, look for the title of this ICR (or its OMB Control Number, if there is one) and then click on the ICR.

FOR FURTHER INFORMATION CONTACT: Judith B. Herman, OMD, 202-418-0214. For additional information about the information collection(s) send an e-mail to PRA@fcc.gov or contact Judith B. Herman, 202-418-0214.

SUPPLEMENTARY INFORMATION: OMB Control No: 3060-0149.

Title: Part 63, Application and Supplemental Information Requirements.

Form No.: N/A.

Type of Review: Revision of a currently approved collection.

Respondents: Business or other for-profit.

Number of Respondents: 90 respondents; 90 responses.

Estimated Time Per Response: 5 hours.

Frequency of Response: On occasion reporting requirement and third party disclosure requirement.

Obligation to Respond: Required to obtain or retain benefits. Statutory authority for this information collection is contained in sections 214 and 402.

Total Annual Burden: 450 hours.

Privacy Act Impact Assessment: N/A.

Nature and Extent of Confidentiality: Information filed in section 214 applications has generally been non-confidential. Requests from parties seeking confidentiality are considered by Commission staff pursuant to agency rules. See 47 CFR 0.459 of the Commission's rules.

Need and Uses: Section 214 of the Communications Act of 1934, as amended, requires that a carrier must first obtain FCC authorization either to: 1) construct, operate, or engage in transmission over a line of communications, or 2) discontinue, reduce, or impair service over a line of communications. Part 63 of Title 47 of the Code of Federal Regulations implements Section 214. Part 63 also implements provisions of the Cable Communications Policy Act of 1984 pertaining to video which was approved under OMB control number 3060-0149.

In this submission to the OMB, the Commission is revising this IC. In the Report and Order , FCC 09-40, WC Docket No. 04-36, the Commission modified Part 63 to extend to providers of interconnected Voice over Internet Protocol (VoIP) service the discontinuance obligations that apply to domestic non-dominant telecommunications carriers under Section 214 of the Communications Act of 1934, as amended. Accordingly, the Commission found that before an interconnected VoIP provider may discontinue, reduce, or impair service, it must comply with the streamlined discontinuance requirements for non-dominant providers under Part 63 of the Commission's rules, including the requirements to provide written notice to all affected customers, notify relevant state authorities, and file an application with the Commission for authorization of the planned action. In general, providers of facilities-based interconnected VoIP services and “over-the-top” interconnected VoIP services are subject to the rules in the VoIP Discontinuance Order. However, the Commission found that it made more sense to treat providers of interconnected VoIP services that are mobile in the same way as Commercial Mobile Radio Service (CMRS) providers, which are not subject to the Commission's Section 214 discontinuance obligations.

OMB Control No: 3060-XXXX.

Title: Implementation of the NET 911 Improvement Act of 2008; Location Information from Owners and Controllers of 911 and E911 Capabilities.

Form No.: N/A.

Type of Review: New collection.

Respondents: Business or other for-profit.

Number of Respondents: 60 respondents; 60 responses.

Estimated Time Per Response: .0833 hours (5 minutes).

Frequency of Response: On occasion reporting requirement and third party disclosure requirement.

Obligation to Respond: Required to obtain or retain benefits. Statutory authority for this information collection is contained in the New and Emerging Technologies 911 Improvement Act of 2008 (NET 911 Act), Public Law 110-283, Stat. 2620 (2008) (to be codified at 47 CFR Section 615a-1), and section 222 of the Communications Act of 1934, as amended.

Total Annual Burden: 5 hours.

Privacy Act Impact Assessment: N/A.

Nature and Extent of Confidentiality: To implement section 222 of the Communications Act of 1934, as amended, the Commission's rules impose a general duty on carriers to protect the privacy of customer proprietary network information and carrier proprietary information from unauthorized disclosure. See 47 CFR 64.2001 et seq. In the Order, the Commission additionally has clarified that the Commission's rules contemplate that incumbent LECs and other owners or controllers of 911 or E911 infrastructure will acquire information regarding interconnected VoIP providers and their customers for use in the provision of emergency services. We fully expect that these entities will use the information only for the provision of E911 services. To be clear, no entity may use customer information obtained as a result of the provision of 911 or E911 services for marketing purposes.

Need and Uses: The Commission will submit this new information collection to the Office of Management and Budget (OMB) during this 30 day comment period in order to obtain the full three year clearance from them. The Commission is reporting a program change increase of 60 respondents/responses and therefore, the total annual burden is estimated to be 5 total annual burden hours.

In a Report and Order, FCC 08-249, WC Docket No. 08-171, the FCC requires an owner or controller of a 911 or enhanced 911 (E911) capability to make that capability available to a requesting interconnected Voice over Internet Protocol (VoIP) provider in certain circumstances. This requirement involves the collection and disclosure to emergency services personnel of customers' location information. In a previous action, the Commission required interconnected VoIP providers to collect certain location information from their customers and disclose it to the entities that owner or control an Automatic Location Information (ALI) database. That OMB-approved required is under OMB Control Number 3060-1085. All the relevant costs of the entities that own or control an ALI database were previously described in 3060-1085. The Commission has calculated the paperwork burdens of this present item in such a way as to prevent double counting for OMB's inventory. For more information regarding this new information collection, see 74 Fed. Reg. 31860 (July 6, 2009) available at <http://frwebtgate5.access.gpo.gov/cgi-bin/PDFgate.cgi>? WAISdocID=594374209894+10+2+0&WAISaction=retrieve.

Federal Communications Commission.
Marlene H. Dortch,
Secretary.

[FR Doc. E9-24569 Filed 10-13-09; 8:45 am]

BILLING CODE 6712-01-S